DEPARTMENT OF TRANSPORTATION

Federal Aviation Administration

14 CFR Part 71

[Docket No. FAA-2020-0010; Airspace Docket No. 17-ASW-18]

RIN 2120-AA66

Revocation of Jet Route J-105 and Amendment of VOR Federal Airways V-15, V-63, V-272, and V-583 in the Vicinity of McAlester, OK

AGENCY: Federal Aviation Administration (FAA), DOT.

ACTION: Final rule.

SUMMARY: This action removes Jet Route J-105 and amends VHF Omnidirectional Range (VOR) Federal airways V-15, V-63, V-272, and V-583 in the vicinity of McAlester, OK. The modifications are necessary due to the planned decommissioning of the VOR portion of the McAlester, OK, VOR/Tactical Air Navigation (VORTAC) navigation aid (NAVAID), which provides navigation guidance for portions of the affected air traffic service (ATS) routes. The McAlester VOR is being decommissioned as part of the FAA's VOR Minimum Operational Network (MON) program.

DATES: Effective date 0901 UTC, July 16, 2020. The Director of the Federal Register approves this incorporation by reference action under Title 1 Code of Federal Regulations part 51, subject to the annual revision of FAA Order 7400.11 and publication of conforming amendments.

ADDRESSES: FAA Order 7400.11D, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11D at NARA, email: fedreg.legal@nara.gov or go to https://www.archives.gov/federal-register/cfr/ibr-locations.html.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the route structure as necessary to preserve the safe and efficient flow of air traffic within the National Airspace System.

History

The FAA published a notice of proposed rulemaking (NPRM) for Docket No. FAA-2020-0010 in the Federal Register (85 FR 3301; January 21, 2020), removing Jet Route J-105 and amending VOR Federal airways V-15, V-63, V-272, and V-583 in the vicinity of McAlester, OK, due to the planned decommissioning of the VOR portion of the McAlester, OK, VORTAC. Interested parties were invited to participate in this rulemaking effort by submitting written comments on the proposal. No comments were received.

Subsequent to the NPRM, the FAA published a rule for Docket No. FAA-2018-0817 in the Federal Register (85 FR 3814; January 23, 2020), amending VOR Federal airway V-15 by removing the airway segment between the Hobby, TX, VOR/DME and the Navasota, TX, VOR/DME. That airway amendment, effective March 26, 2020, is included in this rule.

Jet Routes are published in paragraph 2004 and VOR Federal airways are published in paragraph 6010(a) of FAA Order 7400.11D dated August 8, 2019, and effective September 15, 2019, which is incorporated by reference in 14 CFR 71.1. The Jet Route and VOR Federal airways listed in this document will be subsequently published in the Order.

FAA Order 7400.11, Airspace Designations and Reporting Points, is published yearly and effective on September 15.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

The Rule

The FAA is amending Title 14 Code of Federal Regulations (14 CFR) part 71 by removing Jet Route J-105 and modifying VOR Federal airways V-15, V-63, V-272, and V-583. The planned decommissioning of the VOR portion of the McAlester, OK, VORTAC NAVAID has made this action necessary. The Jet Route and VOR Federal airway changes are outlined below.

J-105: J-105 extends between the Ranger, TX, VORTAC and the Badger, WI, VOR/DME. The jet route is removed in its entirety.

V-15: V-15 extends between the Navasota, TX, VOR/DME and the Neosho, MO, VOR/DME; and between the Sioux City, IA, VORTAC and the Minot, ND, VOR/DME. The airway segment overlying the McAlester, OK, VORTAC between the Bonham, TX, VORTAC and the Okmulgee, OK, VOR/DME is removed. The unaffected portions of the existing airway remain as charted.

V-63: V-63 extends between the Bowie, TX, VORTAC and the Oshkosh, WI, VORTAC; and between the Wausau, WI, VORTAC and the Houghton, MI, VOR/DME. The airway segment overlying the McAlester, OK, VORTAC between the Texoma, OK, VOR/DME and the Razorback, AR, VORTAC is removed. The unaffected portions of the existing airway remain as charted.

V-272: V-272 extends between the Dalhart, TX, VORTAC and the Fort Smith, AR, VORTAC. The airway segment overlying the McAlester, OK, VORTAC between the Will Rogers, OK, VORTAC and the Fort Smith, AR, VORTAC is removed. The unaffected portions of the existing airway remain as charted.

V-583: V-583 extends between the Centex, TX, VORTAC and the McAlester, OK, VORTAC. The airway segment overlying the McAlester, OK, VORTAC between the Paris, TX, VOR/DME and the McAlester, OK, VORTAC is removed. Concurrent changes to other portions of the airway are not being made, at this time, as noted in the NPRM. The unaffected portions of the existing airway remain as charted.

All radials in the route descriptions below are unchanged and stated in True degrees.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of removing Jet Route J-105 and modifying VOR Federal airways V-15, V-63, V-272, and V-583 due to the planned decommissioning of the VOR portion of the McAlester, OK, VORTAC NAVAID qualifies for categorical exclusion under the National Environmental Policy Act and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019 and effective September 15, 2019, is amended as follows:

Paragraph 2004 Jet Routes.

* * * * *

J-105 [Removed]

* * * * *

Paragraph 6010(a) Domestic VOR Federal Airways.

* * * * *

V-15 [Amended]

From Navasota, TX; College Station, TX; Waco, TX; Cedar Creek, TX; to Bonham, TX. From Okmulgee, OK; to Neosho, MO. From Sioux City, IA; INT Sioux City 340° and Sioux Falls, SD, 169° radials; Sioux Falls; Huron, SD; Aberdeen, SD; Bismarck, ND; to Minot, ND.

* * * * *

V-63 [Amended]

From Bowie, TX; to Texoma, OK. From Razorback, AR; Springfield, MO; Hallsville, MO; Quincy, IL; Burlington, IA; Moline, IL; Davenport, IA; Rockford, IL; Janesville, WI; Badger, WI; to Oshkosh, WI. From Wausau, WI; Rhinelander, WI; to Houghton, MI. Excluding that airspace at and above 10,000 feet MSL from 5 NM north to 46 NM north of Quincy, IL, when the Howard West MOA is active.

* * * * *

V-272 [Amended]

From Dalhart, TX; Borger, TX; Burns Flat, OK; to Will Rogers, OK.

* * * * *

V-583 [Amended]

From Centex, TX; INT Centex 061° and College Station, TX, 273° radials; College Station; Leona, TX; Frankston, TX; Quitman, TX; to Paris, TX.

* * * * *

Issued in Washington, DC.
Scott M. Rosenbloom,
Acting Manager, Rules and Regulations Group.

[FR Doc. 2020-09266 Filed 5-6-20; 8:45 am]

BILLING CODE 4910-13-P